DEPARTMENT OF AGRICULTURE

Forest Service

Plumas National Forest; California; Moonlight Fire Recovery and Restoration Project

AGENCY: Forest Service, USDA.

ACTION: Notice of intent to prepare an environmental impact statement.

SUMMARY: The USDA, Forest Service, Plumas National Forest will prepare an Environmental Impact Statement (EIS) on a proposal to harvest fire-killed trees on approximately 14,000 acres in the Moonlight Fire area. The Moonlight Fire burned about 65,000 acres in September 2007 on the Plumas National Forest.

DATES: The draft environmental impact statement is expected in June 2008 and the final environmental impact statement is expected in September 2008.

ADDRESSES: Send written comments to Rich Bednarski, Interdisciplinary Team Leader, Mt. Hough Ranger District, 39696 Highway 70, Quincy, CA 95971. Comments may be: (1) Mailed; (2) hand delivered between the hours of 8 a.m. to 4:30 p.m. weekdays Pacific Time; (3) faxed to (530) 283-1821; or (4) electronically mailed to: comments-pacificsouthwest-plumas-mthough@fs.fed.us. Please indicate the name “Moonlight Fire Recovery and Restoration Project” on the subject line of your email. Comments submitted electronically must be in Rich Text Format (.rtf) or Word (.doc).

FOR FURTHER INFORMATION CONTACT: Rich Bednarski, Interdisciplinary Team Leader, Mt. Hough Ranger District, 39696 Highway 70, Quincy, CA 95971. Telephone: (530) 283-7641 or electronic address: rbednarski@fs.fed.us.

SUPPLEMENTARY INFORMATION: The proposed action is designed to meet the standards and guidelines for land management activities in the Plumas National Forest Land and Resource Management Plan (1988), as amended by the Herger-Feinstein Quincy Library Group (HFQLG) Final Supplemental Environmental Impact Statement (FSEIS) and Record of Decision (ROD) (1999, 2003), and as amended by the Sierra Nevada Forest Plan Amendment FSEIS and ROD (2004).

The proposed project is located in Plumas County, California, within the Mt. Hough Ranger District of the Plumas National Forest. It is located in all or portions of Sections 13, 23-27, 34-35, T28N, R10E; all or portions of Sections 13-14, 17-19, 23-24, 29-34, T28N, R11E; all or portions of Sections 19-20, 29-32, T28N, R12E; all or portions of Sections 1-2, 13-14, 23-25, T27N, R10E; all or portions of Section 2-11, 13-15, 17, 19-22, 25, 35-36, T27N, R11E; and all or portions of Sections 5, 8, 17-20, 29-32, T27N, R12E.

Purpose and Need for Action

The purpose of the project would be to contribute to the stability and economic health of rural communities. The project would provide for local economic benefit by creating jobs from the sale of dead merchantable trees, as well as contribute to local and regional areas with net revenues and receipts. The wood quality, volume, and value of dead trees deteriorate rapidly. The value of trees would cover the cost of their removal and possibly other activities associated with the project.

As a result of the Moonlight Fire, thousands of acres burned with high vegetation burn severity resulting in deforested condition. As a result, shrub species will dominate these areas for decades and experience a delay in returning to a forested condition. The early establishment of conifers through reforestation will expedite forest regeneration.

Proposed Action

The proposed action would harvest fire-killed conifer trees on approximately 14,000 acres using the following methods: Ground based, skyline, and helicopter. Trees greater than 14 inches diameter at breast height (dbh) would be whole tree harvested on the ground-based areas. Trees less than 14 inches dbh would be removed as biomass material on the ground-based areas. About 600 acres would have trees less than 14 inches dbh removed as biomass material. Ground-based equipment would be restricted to slopes less than 35 percent, except on decomposed granitic soils where equipment would be restricted to slopes less than 25 percent. On the skyline and helicopter areas, trees greater than 16 inches dbh would be harvested. Limbs and tops in the skyline and helicopter areas would be lopped and scattered to a depth less than 18 inches in height. Skyline yarding would require one end suspension, with full suspension over intermittent or perennial streams. Fire-killed conifers would be harvested from Riparian Habitat Conservation Areas. Equipment restriction zone widths within Riparian Habitat Conservation Areas would be established based on the stream type and steepness of the slope adjacent to the streams. Snags would be retained in snag retention areas, that are approximately ten acres in size, on approximately ten percent of the project area. Salvage harvest would not occur within the snag retention areas except for operability (safety) reasons. Approximately 25 miles of temporary roads would be constructed. Approximately 20 acres (nine landings) of helicopter landings would be constructed. Excess fuels on landings would be piled, a fireline constructed around the piles, and the piles burned. Following completion of the project, the temporary roads and landings would be subsoiled, reforested, and closed. Approximately 14,000 acres would be reforested with conifer seedlings in widely spaced clusters to emulate a naturally established forest. The areas would be reforested with a mixture of native species.

The Moonlight Fire impacted twenty California spotted owl Protected Activity Centers (PACs). According to the Sierra Nevada Forest Plan Amendment FSEIS and ROD (2004), page 37, after a stand-replacing event, the habitat conditions are evaluated within a 1.5 mile radius around the activity center to identify opportunities for re-mapping the PAC. If there is insufficient suitable habitat for designating a PAC within the 1.5 mile radius, the PAC may be removed from the network.

Possible Alternatives

In addition to the proposed action, a no action alternative would be analyzed. Additional alternatives may be developed and analyzed throughout the environmental analysis.

Lead and Cooperating Agencies

The USDA, Forest Service is the lead agency for this proposal.

Responsible Official

Alice B. Carlton, Plumas National Forest Supervisor, P.O. Box 11500, Quincy, CA 95971.

Nature of Decision To Be Made

The decision to be made is whether to: (1) Implement the proposed action; (2) meet the purpose and need for action through some other combination of activities; or, (3) take no action at this time.

Scoping Process

This notice of intent initiates the scoping process which guides the development of the environmental impact statement. Scoping comments will be most helpful if received by January 4, 2008. Scoping is conducted to determine the significant issues that will be addressed during the environmental analysis.

Permits or Licenses Required

An Air Pollution Permit and a Smoke Management Plan are required by local agencies. Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 21, 2007.
Maria T. Garcia,
Acting Forest Supervisor.

[FR Doc. 07-6301 Filed 1-4-08; 8:45 am]

BILLING CODE 3410-11-M